DEPARTMENT OF DEFENSE

Department of the Army

Board of Visitors, United States Military Academy (USMA)

AGENCY: Department of the Army, DoD.

ACTION: Notice of open meeting.

SUMMARY: In accordance with Section 10(a)(2) of the Federal Advisory Committee Act (Pub. L. 92-463), announcement is made of the following committee meeting:

Name of Committee: Board of Visitors, United States Military Academy.

Date: Monday, July 17, 2006.

Place of Meeting: Superintendent's Conference Room, Taylor Hall, 2nd Floor, Bldg. 600, West Point, NY.

Start Time of Meeting: Approximately 9 a.m.

FOR FURTHER INFORMATION CONTACT: Lieutenant Colonel Shaun T. Wurzbach, United States Military Academy, West Pint, NY 10996-5000, (845) 938-4200.

SUPPLEMENTARY INFORMATION: Proposed Agenda: Summer Meeting of the Board of Visitors. Review of the Academic, Military and Physical Programs at the USMA. Sub Committee meetings on Academics, Military/Physical and Quality of Life to be held prior to the Summer meeting. Board Members will observe Cadet Summer Training. All proceedings are open.

Brenda S. Bowen,
Army Federal Register Liaison Officer.

[FR Doc. 06-5920 Filed 6-29-06; 8:45 am]

BILLING CODE 3710-08-M